ENVIRONMENTAL PROTECTION AGENCY

[EPA-HQ-OAR-2007-1184; FRL 9527-6]

Information Collection Request Submitted to OMB for Review and Approval; Comment Request; Information Requirements for Locomotives and Locomotive Engines (Renewal)

AGENCY: Environmental Protection Agency (EPA).

ACTION: Notice.

SUMMARY: The Environmental Protection Agency has submitted an information collection request (ICR), “Information Requirements for Locomotives and Locomotive Engines (Renewal)” (EPA ICR No. 1800.07, OMB Control No. 2060-0392) to the Office of Management and Budget (OMB) for review and approval in accordance with the Paperwork Reduction Act (44 U.S.C. 3501 et seq.). This is a proposed extension of the ICR, which is currently approved through February 28, 2013. Public comments were previously requested via the Federal Register (77 FR 69450) on November 19, 2012 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 28, 2013.

ADDRESSES: Submit your comments, referencing Docket ID Number Docket ID No. EPA-HQ-OAR-2007-1184, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Nydia Yanira Reyes-Morales, Environmental Protection Agency, 1200 Pennsylvania Avenue NW., Mail Code 6403J, Washington, DC 20460; telephone number: 202-343-9264; fax number: 202-343-2804; email address: reyes-morales.nydia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: Title II of the Clean Air Act (42 U.S.C. 7521 et seq.) (CAA) charges the Environmental Protection Agency (EPA) with issuing certificates of conformity for those engines that comply with applicable emission standards. Such a certificate must be issued before engines may be legally introduced into commerce. Under this ICR, EPA collects information necessary to (1) issue certificates of compliance with emission statements, and (2) verify compliance with various programs and regulatory provisions pertaining to locomotives, locomotive engines, and locomotive remanufacturing kits (collectively referred to here as “engines” for simplicity). To apply for a certificate of conformity, manufacturers are required to submit descriptions of their planned production engines, including detailed descriptions of emission control systems and test data. This information is organized by “engine family” groups expected to have similar emission characteristics. There are also recordkeeping requirements. Those manufacturers electing to participate in the Averaging, Banking and Trading (AB&T) Program are also required to submit information regarding the calculation, actual generation and usage of credits in an initial report, end-of-the-year report and final report. These reports are used for certification and enforcement purposes. Manufacturers must maintain records for eight years on the engine families included in the AB&T Program.

The CAA also mandates EPA to verify that manufacturers have successfully translated their certified prototypes into mass produced engines, and that these engines comply with emission standards throughout their useful lives. Under the Production Line Testing (PLT) Program, manufacturers are required to test a sample of engines as they leave the assembly line. This self-audit program allows manufacturers to monitor compliance with statistical certainty and minimize the cost of correcting errors through early detection. A similar audit program exists for the installation of locomotive remanufacturing kits. In-use testing allows manufacturers and EPA to verify compliance with emission standards throughout the locomotive's useful life. Through Selected Enforcement Audits (SEAs), EPA verifies that test data submitted by engine manufacturers is reliable and testing is performed according to EPA regulations.

The information requested is collected by the Diesel Engine Compliance Center (DECC), Compliance Division (CD), Office of Transportation and Air Quality, Office of Air and Radiation, EPA. Besides DECC and CD, this information could be used by the Office of Enforcement and Compliance Assurance and the Department of Justice for enforcement purposes. Non-confidential business information submitted by respondents to this information collection may be disclosed over the Internet. That information is used by trade associations, environmental groups, and the public. Under this ICR, most of the information is collected in electronic format and stored in CD's databases.

Confidential business information (CBI) is kept confidential in accordance with the Freedom of Information Act, EPA regulations at 40 CFR Part 2, and class determinations issued by EPA's Office of General Counsel. Non-proprietary information submitted by manufacturers is held as confidential until the specific locomotive or locomotive engine to which it pertains is available for purchase.

Form Numbers: 5900-274 (ABT Report); 5900-135 (PLT Report), 5900-273 (Installation Audit Report), 5900-90 (Annual Production Report)

Respondents/affected entities: Respondents are manufacturers of nonroad equipment and engines

Respondent's obligation to respond: Manufacturers must respond to this collection if they wish to sell their locomotives, locomotive engines and locomotive remanufacturing kits in the US, as prescribed by Section 206(a) of the CAA (42 U.S.C. 7521) and 40 CFR Part 1033. Certification reporting is mandatory (Section 206(a) of CAA (42 U.S.C. 7521) and 40 CFR Part 1033, Subpart C). PLT/Installation Audit reporting is mandatory (Section 206(b)(1) of CAA and 40 CFR Part 1033, Subpart D). Participation in ABT is voluntary, but once a manufacturer has elected to participate, it must submit the required information (40 CFR Part 1033, Subpart H). In-Use reporting is mandatory (40 CFR Part 1033, Subpart F).

Estimated number of respondents: 16 (total).

Frequency of response: Quarterly, Annually, On Occasion, depending on the program.

Total estimated burden: 21,543 hours (per year). Burden is defined at 5 CFR 1320.03(b)

Total estimated cost: $2,862,117 (per year), which includes $1,558,881 in O&M costs.

Changes in the Estimates: There is an increase of 414 hours in the total estimated respondent burden compared with the ICR currently approved by OMB. This increase is due to an adjustment to the estimates (an increase on the number of respondents).

John Moses,
Director, Collection Strategies Division.

[FR Doc. 2013-04411 Filed 2-25-13; 8:45 am]

BILLING CODE 6560-50-P